ENVIRONMENTAL PROTECTION AGENCY

[OPP-2003-0076; FRL-7296-4]

The Association of American Pesticide Control Officials/State FIFRA Issues Research and Evaluation Group Working Committee on Pesticide Operations & Management; Notice of Public Meeting

AGENCY: Environmental Protection Agency (EPA).

ACTION: Notice.

SUMMARY: The Association of American Pesticide Control Officials (AAPCO)/State FIFRA Issues Research and Evaluation Group (SFIREG) Working Committee on Pesticide Operations & Management (WC/POM) will hold a 2-day meeting on April 7-8, 2003. This notice announces the location and times for the meeting and sets forth the tentative agenda topics.

DATES: The meeting will be held on Monday, April 7, 2003, from 8:30 a.m. to 5 p.m. and on Tuesday, April 8, 2003, from 8:30 a.m. to 12 p.m.

ADDRESSES: The meeting will be held at the Trade Winds Sirata Beach Resort, 5300 Gulf Blvd., St. Pete Beach, FL 33706; telephone number: (727) 363-5100.

FOR FURTHER INFORMATION CONTACT: Georgia McDuffie, Field and External Affairs Division (7506C), Office of Pesticide Programs, Environmental Protection Agency, 1200 Pennsylvania Ave., NW., Washington, DC 20460-0001; telephone number: (703) 605-0195; fax number: (703) 308-1850; e-mail address: Mcduffie.Georgia@epa.gov. or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

This action is directed to the public in general, and may be of particular interest to those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2003-0076. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

This unit provides tentative agenda topics for the 2-day meeting.

1. Worker Protection Standard Tiered Inspection.

2. Chlropyrifos disposal.

3. Worker Protection Standard Greenhouse labeling.

4. English labels.

5. Cross contamination.

6. Worker Protection Standard Multiple REI.

7. Supplemental label distribution.

8. Post application liability.

9. Written exams.

10. Section 18, Communication with Tribes.

11. Canadian seed treatment.

12. Program funding.

13. Pesticide security.

14. Mosquito labeling.

15. Certification exams and ADA.

16. Misleading labeling.

17. POM Working Committee Workgroups/Updates.

18. EPA Update/Briefing:

i. Office of Pesticide Programs update.

ii. Office of Enforcement Compliance Assurance update.

List of Subjects

Environmental protection, Labeling, Pesticides, Worker protection.

Dated: February 25, 2003.
Jay S. Ellenberger,
Associate Director, Field and External Affairs Division, Office of Pesticide Programs.

[FR Doc. 03-5481 Filed 3-11-03; 8:45 am]

BILLING CODE 6560-50-S